DEPARTMENT OF ENERGY

Federal Energy Regulatory Commission

[Project No. 2088-075]

South Feather Water and Power Agency; Notice of Intent To Prepare an Environmental Document and Soliciting Comments

August 27, 2009.

Take notice that the following hydroelectric application has been filed with the Commission and is available for public inspection:

a. Application Type: Intent to raise dam crest and modify spillway.

b. Project No: 2088-075.

c. Date Filed: May 21, 2009.

d. Applicant: South Feather Water and Power Agency .

e. Name of Project: South Feather Power Project.

f. Location: The South Feather Power Project is located on the South Fork Feather River, Lost Creek, and Slate Creek in Butte, Plumas, and Yuba Counties, California. This project occupies federal and non-federal lands.

g. Filed Pursuant to: Federal Power Act, 16 U.S.C. 791a-825r.

h. Applicant Contact: Kathy Zancanella, South Feather Water and Power Agency Power Division, 2310 Oro Quincy Highway, Oroville, CA 95966, Tel: (503) 534-1221.

i. FERC Contact: Joy Jones, Telephone (202) 502-6760, and e-mail: joy.jones@ferc.gov.

j. Deadline for Filing Comments, Motions To Intervene, and Protests: September 28, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: South Feather Water and Power Agency has filed an Environmental Report addressing its intent to modify the crest of Sly Creek Dam, part of the South Feather Power Project (FERC No. 2088). The project consists of four separate developments: Sly Creek, Woodleaf, Forbestown and Kelly Ridge. The proposed work at Sly Creek Dam would take place within the Sly Creek development. Water from Sly Creek reservoir is controlled by Sly Creek Dam, which releases water to the Lost Creek reservoir downstream of the dam. A hydraulic study on Sly Creek reservoir included an estimate of the probable maximum flood (PMF) flow event for the reservoir, which indicated that during a PMF event, the dam crest would overtop unless it was raised and/or the spillway was modified. To ensure the licensee's compliance with FERC engineering guidelines and safety regulations, modifications to the dam are necessary. The licensee is proposing to raise the dam crest, replace the spillway gate and platform, raise the abutment walls of the spillway channel, and improve the roadway approaching the spillway and associated drainage structures. Under the licensee's proposal, the operating level of Sly Creek reservoir's water surface elevation would remain consistent with the original water surface elevation approved in the project license.

The Commission intends to prepare an environmental document under the National Environmental Policy Act (NEPA) for the Sly Creek Dam crest raise project. The NEPA document will be used by the Commission to identify environmental impacts and to identify measures that would help mitigate the impacts caused by modification activities.

l. Locations of the Application: A copy of the application is available for inspection and reproduction at the Commission's Public Reference Room, located at 888 First Street, NE., Room 2A, Washington, DC 20426. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments: Anyone may submit comments with respect to the licensee's proposed activities. In determining the appropriate action to take, the Commission will consider all comments filed. Any comments must be received on or before the specified comment date for the particular application.

o. Any filing made with the Commission must bear in all capital letters the title “COMMENTS” and the Project Number (P-2088-075) of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments may be filed electronically via the Internet in lieu of paper. See, 18 CFR 385.2001(a)(1)(iii) and the instructions on the Commission's Web site at http://www.ferc.gov under the “e-Filing” link.

Kimberly D. Bose,
Secretary.

[FR Doc. E9-21245 Filed 9-2-09; 8:45 am]

BILLING CODE 6717-01-P